DEPARTMENT OF COMMERCE

First Responder Network Authority

Combined Board and Board Committees Meeting

AGENCY: First Responder Network Authority (FirstNet Authority), National Telecommunications and Information Administration (NTIA), Department of Commerce.

ACTION: Announcement of meeting.

SUMMARY: The FirstNet Authority Board will convene an open public meeting of the Board and Board Committees.

DATES: December 9, 2020; 11:00 a.m. to 1:00 p.m. Eastern Standard Time (EST); WebEx.

ADDRESSES: The public meeting will be conducted via WebEx. Members of the public may listen to the meeting and view the slide presentation by visiting the URL: https://stream2.sparkstreetdigital.com/20201209-firstnet.html?id=20201209-firstnet. WebEx information can also be found on the FirstNet website (FirstNet.gov).

FOR FURTHER INFORMATION CONTACT:

For General Information: Janell Smith, (202) 257-5929, Janell.Smith@FirstNet.gov.

For Media Inquiries: Ryan Oremland, (571) 665-6186, Ryan.Oremland@FirstNet.gov.

SUPPLEMENTARY INFORMATION:

Background: The Middle Class Tax Relief and Job Creation Act of 2012 (codified at 47 U.S.C. 1401 et seq.) (Act) established the FirstNet Authority as an independent Authority within NTIA. The Act directs the FirstNet Authority to ensure the building, deployment, and operation of a nationwide Interoperable Public Safety Broadband Network. The FirstNet Authority Board is responsible for making strategic decisions regarding the FirstNet Authority's operations.

Matters to be Considered: The FirstNet Authority will post a detailed agenda for the Combined Board and Board Committees Meeting on FirstNet.gov prior to the meeting. The agenda topics are subject to change. Please note that the subjects discussed by the Board and Board Committees may involve commercial or financial information that is privileged or confidential, or other legal matters affecting the FirstNet Authority. As such, the Board may, by majority vote, close the meeting only for the time necessary to preserve the confidentiality of such information, pursuant to 47 U.S.C. 1424(e)(2).

Other Information: The Combined Board and Board Committees Meeting is accessible to people with disabilities. Individuals requiring accommodations, such as sign language interpretation or other ancillary aids, are asked to notify Janell Smith at (202) 257-5929 or email: Janell.Smith@FirstNet.gov at least five (5) business days (December 2) before the meeting.

Records: The FirstNet Authority maintains records of all Board proceedings. Minutes of the Combined Board and Board Committees Meeting will be available on FirstNet.gov.

Dated: November 24, 2020.
Janell Smith,
Board Secretary, First Responder Network Authority.

[FR Doc. 2020-26421 Filed 11-30-20; 8:45 am]

BILLING CODE P